DEPARTMENT OF COMMERCE

National Oceanic and Atmospheric Administration

[I.D. 110801B]

Marine Mammals; File No. 376-1520-01

AGENCY: National Marine Fisheries Service (NMFS), National Oceanic and Atmospheric Administration (NOAA), Commerce.

ACTION: Denial of amendment to permit.

SUMMARY: Notice is hereby given that a request for an amendment to scientific research Permit No. 376-1520-01, submitted by James H.W. Hain, Associated Scientists at Woods Hole, Box 721, Woods Hole, MA 02543 has been denied.

ADDRESSES: The application and related documents are available for review upon written request or by appointment in the following office(s):

Permits and Documentation Division, F/PR1, Office of Protected Resources, NMFS, 1315 East-West Highway, Room 13705, Silver Spring, MD 20910; phone (301) 713-2289; fax (301) 713-0376;

Regional Administrator, Northeast Region, NMFS, One Blackburn Drive, Gloucester, MA 01930-2298; phone (978) 281-9200; fax (978) 281-9371; and

Regional Administrator, Southeast Region, NMFS, 9721 Executive Center Drive North, St. Petersburg, FL 33702-2432; phone (727) 570-5301; fax (727) 570-5320.

FOR FURTHER INFORMATION CONTACT: Tammy Adams or Ruth Johnson, (301) 713-2289.

SUPPLEMENTARY INFORMATION: On July 31, 2001, A notice was published in the Federal Register (66 FR 39493) that an application for a permit amendment had been filed by the above named individual. The requested permit amendment has been denied pursuant to the Marine Mammal Protection Act of 1972 (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

Permit No. 376-1520-01 authorizes the Holder to approach a variety of cetacean species to conduct photo-identification and behavioral observations. The approach distances in the permit are currently limited to: up to 100 ft. (31 m) by vessel, 200 ft. (61 m) directly above and 350 ft. (107 m) slant range by aircraft for all species except North Atlantic right whales (Eubalaena glacialis), and up to 700 ft. (213 m) directly above and at slant range in fixed- and rotary-winged aircraft, and 500 ft. (152 m) directly above and 350 ft (107 m) slant range using an aerostat (blimp) for right whales. The permit holder requested an amendment to the permit to allow approaching North Atlantic right whales up to 100 ft. (31 m) in a variety of small vessels, including kayaks, for the purpose of photo-identification.

Dated: November 26, 2001.
Ann D. Terbush,
Chief, Permits, Conservation and Education Division, Office of Protected Resources, National Marine Fisheries Service.

[FR Doc. 01-29766 Filed 11-29-01; 8:45 am]

BILLING CODE 3510-22-S